DEPARTMENT OF HOMELAND SECURITY

Coast Guard

[USCG-2006-25528]

Chemical Transportation Advisory Committee

AGENCY: Coast Guard, DHS.

ACTION: Notice of meeting.

SUMMARY: The Chemical Transportation Advisory Committee (CTAC), its Subcommittee on Hazardous Cargo Transportation Security (HCTS), as well as its Working Groups on MARPOL Annex II, Barge Hazard Communication and Vapor Control Systems (VCS) will meet to discuss various issues relating to the marine transportation of hazardous materials in bulk. These meetings will be open to the public.

DATES: The Working Group on MARPOL Annex II will meet on Tuesday, August 22, 2006, from 8:30 a.m. to 12 p.m. and the HCTS Subcommittee will meet on Tuesday, August 22, 2006 from 12:30 p.m. to 5 p.m. The Working Group on VCS will meet on Wednesday, August 23, 2006 from 8:30 a.m. to 12 p.m. and the Working Group on Barge Hazard Communication will meet on Wednesday, August 23, 2006, from 12:30 p.m. to 5 p.m. CTAC will meet on Thursday, August 24, 2006, from 9 a.m. to 3:30 p.m. These meetings may close early if all business is finished. Written material and requests to make oral presentations should reach the Coast Guard on or before August 18, 2006. Requests to have a copy of your material distributed to each member of the Committee should reach the Coast Guard on or before August 18, 2006.

ADDRESSES: The HCTS Subcommittee and the Working Groups on MARPOL Annex II, VCS, and Barge Hazard Communication will be held at American Commercial Barge Lines LLC, 1701 East Market Street, Jeffersonville, IN 47130. The CTAC meeting will be held at The Ramada Inn Jeffersonville, 700 W. Riverside Drive, Jeffersonville, IN 47130. Send written material and requests to make oral presentations to Commander Richard Raksnis, Executive Director of CTAC, Commandant (G-PSO-3), U.S. Coast Guard Headquarters, 2100 Second Street S.W., Washington, DC 20593-0001 or e-mail: CTAC@comdt.uscg.mil. This notice is available on the Internet at http://dms.dot.gov.

FOR FURTHER INFORMATION CONTACT: Commander Richard Raksnis, Executive Director of CTAC, or Ms. Sara Ju, Assistant to the Executive Director, telephone (202) 372-1425, fax (202) 372-1926.

SUPPLEMENTARY INFORMATION: Notice of these meetings is given under the Federal Advisory Committee Act, 5 U.S.C. App. 2.

Agenda of Working Group on MARPOL Annex II Meeting on Tuesday, August 22, 2006

(1) Introduce Working Group members and attendees.

(2) Finalize guidance document for the U.S. implementation of revisions to MARPOL Annex II and the International Code for the Construction and Equipment of Ships Carrying Dangerous Chemicals in Bulk (IBC Code).

Agenda of HCTS Subcommittee Meeting on Tuesday, August 22, 2006

(1) Introduce Subcommittee members and attendees.

(2) Finalize document on recommendations to change definition of certain dangerous cargo (CDC) residues.

(3) Continue Notice of Arrival regulation discussions.

Agenda of Working Group on VCS Meeting on Wednesday, August 23, 2006

(1) Introduce Working Group members and attendees.

(2) Develop recommendations for revising the Coast Guard VCS regulations on vapor balancing operations during cargo unloading.

Agenda of Working Group on Barge Hazard Communication Meeting on Wednesday, August 23, 2006

(1) Introduce Working Group members and attendees.

(2) Continue discussion on assisting first responders to identify cargoes on inland barges.

(3) Develop guidance document to implement emergency phone numbers on inland barges.

Agenda of CTAC Meeting on Thursday, August 24, 2006

(1) Introduce Committee members and attendees.

(2) Status report presentation from the CTAC HCTS Subcommittee to include discussion and vote on recommendations to the Coast Guard to change the definition of certain dangerous cargo (CDC) residues.

(3) Status report presentation from the CTAC Outreach Subcommittee.

(4) Status report presentation from the CTAC MARPOL Annex II Working Group to include discussion and vote on guidance document to be submitted to the Coast Guard on proposed implementation of revisions to MARPOL Annex II and the IBC Code in the U.S.

(5) Status report presentation from the CTAC Barge Emission and Barge Hazard Communication Working Group.

(6) Status report presentation from the VCS Working Group to include discussion and vote on recommendations to the Coast Guard for revising the Coast Guard VCS regulations on vapor balancing operations while unloading cargo.

(7) Update on Coast Guard regulatory projects.

Procedural

These meetings are open to the public. Please note that the meetings may close early if all business is finished. At the discretion of the Chair, members of the public may make oral presentations during the meetings generally limited to 5 minutes. If you would like to make an oral presentation at a meeting, please notify the Executive Director and submit written material on or before August 18, 2006. If you would like a copy of your material distributed to each member of the Committee in advance of a meeting, please submit 25 copies to the Executive Director (see ADDRESSES) no later than August 18, 2006.

Information on Services for Individuals With Disabilities

For information on facilities or services for individuals with disabilities, or to request special assistance at the meeting, telephone the Executive Director as soon as possible.
Dated: August 2, 2006.
J.G. Lantz,
Director of National and International Standards, Assistant Commandant for Prevention.

[FR Doc. E6-12791 Filed 8-7-06; 8:45 am]

BILLING CODE 4910-15-P